OFFICE OF THE UNITED STATES TRADE REPRESENTATIVE

[Docket No. USTR-2011-0011]

Notice and Request for Comments: Two-Year Extension of Softwood Lumber Agreement

AGENCY: Office of the United States Trade Representative.

ACTION: Notice and request for public comment.

SUMMARY: The U.S.-Canada Softwood Lumber Agreement (“SLA” or “the Agreement”) entered into force on October 12, 2006 and is currently scheduled to expire on October 12, 2013. The SLA includes a provision for extension of the Agreement for an additional two years. The United States is considering extending the SLA through October 12, 2015. Interested persons are invited to submit comments on the possible extension of the Agreement.

DATES: To ensure consideration, comments should be submitted no later than 30 days after publication of the notice.

ADDRESSES: Comments should be submitted electronically via the Internet at http://www.regulations.gov, docket number USTR-2011-0011. If you are unable to provide submissions by http://www.regulations.gov, please contact Mary Sullivan Smith at (202) 395-9404 to arrange for an alternative method of transmission.

FOR FURTHER INFORMATION CONTACT: Mary Sullivan Smith, Director for Canada, (202) 395-9404, for questions concerning procedures for filing submissions in response to this notice.

Background: The entry into force of the 2006 U.S.-Canada Softwood Lumber Agreement settled litigation in U.S. and international venues and resulted in the revocation of antidumping and countervailing duty orders on softwood lumber from Canada. The SLA is designed to constrain softwood lumber exports from Canada into the United States when demand in the United States is low. In favorable market conditions, the SLA provides for unrestricted trade in softwood lumber.

As part of the SLA, the United States agreed to cease the collection of antidumping and countervailing duties upon softwood lumber from Canada and to refund US$5 billion in deposits of duties. In exchange, Canada agreed, among other things, to apply export measures—export charges and volume limitations—to shipments of softwood lumber from Canada to the United States when the price of softwood products falls below a certain level. The SLA provides for arbitration to resolve disputes between the United States and Canada regarding the interpretation and implementation of the Agreement. Under the SLA, arbitration is conducted under the rules of the LCIA.

Pursuant to Article XVIII “the SLA 2006 shall remain in force for 7 years after the Effective Date and may be extended by agreement of the Parties for an additional 2 years.” Without an extension, the Agreement will expire in October 12, 2013. USTR is considering extending the SLA for two years pursuant to the President's constitutional authority to conduct the foreign relations of the United States, as delegated to the USTR from the President through Executive Orders, including Executive Order 11846 (Administration of the Trade Agreements Program). Request for Public Comment: The USTR invites comments from interested persons with respect to the possible extension of the SLA 2006.

To submit comments via http://www.regulations.gov, enter docket number USTR-2011-0011 on the home page and click “Search”. The site will provide a search-results page listing all documents associated with this docket. Find a reference to this notice by selecting “Notice” under “Document Type” the search-results page, and click on the link entitled “Send a Comment” (For further information on using the http://www.regulations.gov Web site, please consult the resources provided on the Web site by clicking on “How to Use This Site” on the left side of the home page.)

The http://www.regulations.gov site provides the option of providing comments by filling in a “Type Comment” field, or by attaching a document. All comments should be provided in an attached document. Submissions must state clearly the position taken and describe with specificity the supporting rationale and must be written in English. After attaching the document, it is sufficient to type “See attached” in the “Type Comment” field.

Comments will be placed in the docket and open to public inspection except confidential business information. Comments may be viewed on the http://www.regulations.gov Web site by entering docket number USTR-2011-0011 in the search field on the home page.

Persons wishing to submit business confidential information must certify in writing that such information is confidential and such information must be clearly marked “Business Confidential” at the top and bottom of the cover page and each succeeding page. Submit any documents containing business confidential information with a file name beginning with the characters “BC”. Submit, as a separate submission, a public version of the submission with a file name beginning with the character “P”. The “BC” and “P” should be followed by the name of the person or entity submitting the comments. Electronic submissions should not attach separate cover letters; rather, information that might appear in a cover letter should be included in the comments you submit. Similarly, to the extent possible, please include any exhibits, annexes, or other attachments to a submission in the same file as the submission itself and not as separate files.

Mary Sullivan Smith,
Director for Canadian Affairs.

[FR Doc. 2011-23676 Filed 9-14-11; 8:45 am]

BILLING CODE 3190-W1-P